SOCIAL SECURITY ADMINISTRATION

20 CFR Parts 404 and 416

[Regulations No. 4 and 16]

RIN 0960-AF21

Reinstatement of Entitlement to Disability Benefits

AGENCY: Social Security Administration.

ACTION: Notice of proposed rulemaking; extension of comment period.

SUMMARY: The Social Security Administration (SSA) is extending the comment period for the proposed rules regarding the Reinstatement of Entitlement (Expedited Reinstatement) provision in section 112 of the Ticket to Work and Work Incentives Improvement Act of 1999. This provision allows former Social Security disability and Supplemental Security Income (SSI) disability or blindness beneficiaries, whose entitlement or eligibility had been terminated due to their work activity, to have their entitlement or eligibility reinstated in a timely fashion if they become unable to do substantial gainful work due to their medical condition. These rules provide beneficiaries an additional incentive to return to work.

DATES: To be sure your comments are considered we must receive them no later than January 16, 2004.

ADDRESSES: You may give us your comments by using: our Internet site facility (i.e., Social Security Online) at http://policy.ssa.gov/pnpublic.nsf/LawsRegs; or the Federal eRulemaking Portal: http://www.regulations.gov; or e-mail to regulations@ssa.gov; telefax to (410) 966-2830; or letter to the Commissioner of Social Security, P.O. Box 17703, Baltimore, MD 21235-7703. You may also deliver them to the Office of Regulations, Social Security Administration, 100 Altmeyer Building, between 8 a.m. and 4:30 p.m. on regular business days. Comments are posted for your review on our Internet site http://policy.ssa.gov/pnpublic.nsf/LawsRegs, or you may inspect them physically on regular business days by making arrangements with the contact person shown in this preamble.

Electronic Version

The electronic file of this document is available on the date of publication in the Federal Register at http://www.gpoaccess.gov/fr/index.html. It is also available on the Internet site for SSA (i.e., Social Security Online) at http://policy.ssa.gov/pnpublic.nsf/LawsRegs.

FOR FURTHER INFORMATION CONTACT: John Nelson, Team Leader, Employment Policy Team, Office of Employment Support Programs, Social Security Administration, 6401 Security Boulevard, Room 107 Altmeyer Building, Baltimore, MD 21235-6401, (410) 966-5114 or TTY (410) 966-5609. For information on eligibility or filing for benefits call our national toll-free numbers 1-800-772-1213 or TTY 1-800-325-0778, or visit our Internet site, Social Security Online at http://www.socialsecurity.gov.

SUPPLEMENTARY INFORMATION: The Social Security Administration published a notice of proposed rulemaking in the Federal Register on October 27, 2003 (68 FR 61162), proposing rules regarding the expedited reinstatement provision in section 112 of the Ticket to Work and Work Incentives Improvement Act of 1999 (Pub. L. 106-170).

This document extends, to January 16, 2004, the comment period for that notice of proposed rulemaking. If you have already provided comments on the proposed rules, your comments will be considered and you do not need to re-submit them.

Dated: December 29, 2003.
Martin J. Sussman,
SSA Regulations Officer.

[FR Doc. 04-58 Filed 1-2-04; 8:45 am]

BILLING CODE 4191-02-P